DEFENSE NUCLEAR FACILITIES SAFETY BOARD

Sunshine Act Notice

AGENCY: Defense Nuclear Facilities Safety Board.

ACTION: Notice of closed meeting; correction.

SUMMARY: The Defense Nuclear Facilities Safety Board (Board) published a notice in the Federal Register of March 21, 2017, (82 FR 14506), concerning a closed meeting on March 23, 2017, at the Board's headquarters located at 625 Indiana Avenue NW., Suite 352, Washington, DC 20004-2901. The Board corrects that notice by changing the description of the meeting's closed status, as set forth below.

CONTACT PERSON FOR MORE INFORMATION: Katherine Herrera, Deputy General Manager, Defense Nuclear Facilities Safety Board, 625 Indiana Avenue NW., Suite 700, Washington, DC 20004-2901, (800) 788-4016. This is a toll-free number.

Correction

In the Federal Register of March 21, 2017, in FR Doc. 2017-05622, on page 14507, in the first column, correct the paragraph under the “Status” caption to read: “Closed. During the closed meeting, the Board Members will discuss issues dealing with potential Recommendations to the Secretary of Energy. The Board is invoking the exemptions to close a meeting described in 5 U.S.C. 552b(c)(3) and (9)(B) and 10 CFR 1704.4(c) and (h). The Board has determined that it is necessary to close the meeting since conducting an open meeting is likely to disclose matters that are specifically exempted from disclosure by statute, and/or be likely to significantly frustrate implementation of a proposed agency action. In this case, the deliberations will pertain to potential Board Recommendations which, under 42 U.S.C. 2286d(b) and (h)(3), may not be made publicly available until after they have been received by the Secretary of Energy or the President, respectively.”

Dated: March 21, 2017.
Sean Sullivan,
Chairman.

[FR Doc. 2017-06015 Filed 3-22-17; 4:15 pm]

BILLING CODE 3670-01-P